CONSUMER PRODUCT SAFETY COMMISSION

[CPSC Docket No. 01-2]

Quantum North America, Inc., and e4L, Inc.; Complaint

AGENCY: Consumer Product Safety Commission.

ACTION: Publication of a complaint under the Consumer Product Safety Act.

SUMMARY: Under provisions of its Rules of Practice for Adjudicative Proceeding (16 CFR Part 1025), the Consumer Product Safety Commission must publish in the Federal Register Complaints which it issues. Published below is a Complaint in the matter of Quantum North America, Inc., and e4L, Inc.

SUPPLEMENTARY INFORMATION: The text of the Complaint appears below.

Dated: May 31, 2001.
Todd A. Stevenson,
Deputy Secretary.

Complaint

Nature of Proceedings

1. This is an administrative proceeding pursuant to section 15 of the Consumer Product Safety Act (“CPSA”), 15 U.S.C. 2064; for public notification and remedial action to protect the public from substantial risks of injury presented by the Red Devil gas grill. This proceeding is governed by the Rules of Practice for Adjudicative Proceedings before the Consumer Product Safety Commission, 16 CFR part 1025.

Jurisdiction

2. This proceeding is instituted pursuant to the authority contained in sections 15(c), (d) and (f) of the CPSA, 15 U.S.C. 2064(c), (d) and (f).

Parties

3. Complaint counsel is the staff of the Legal Division of the Office of Compliance of the U.S. Consumer Product Safety Commission, an independent regulatory commission established by section 4 of the CPSA. 15 U.S.C. 2053.

4. Respondent Quantum North America, Inc. (hereinafter referred to as “Quantum”) is a Delaware Corporation, with its principal place of business located at 15821 Ventura Boulevard, Encino, California.

5. Respondent, e4L, Inc. (hereinafter referred to as “e4L”) is a Delaware Corporation, with its principal place of business located at 15821 Ventura Boulevard, Encino, California.

6. Quantum and e4L are “manufacturers” of consumer products as that term is defined in the CPSA, 15 U.S.C. 2052(a)(4). Quantum and e4L manufactured the Red Devil gas grill.

The Consumer Product

7. The Red Devil gas grill was produced and distributed specifically for sale to or use by consumers as an outdoor cooking appliance in or around a permanent or temporary residence. These gas grills are “consumer products” that were “distributed in commerce.” 15 U.S.C. 2052(a)(1)(i) and (ii).

Defect

8. Paragraphs 1 through 7 are hereby realleged, and incorporated by reference as though fully set forth herein.

9. The Red Devil gas grill connects to a propane gas container. A plastic locking mechanism sits atop a collapsible three legged stand. A top threaded venturi tube, which contains four (4) symmetrical air intake openings, is placed through the underside of a plastic locking mechanism, and is vertically locked into place by flipping a handle. The lower end of the venturi tube is attached to a gas regulator. A burner pan is then placed on top of the venturi tube.

10. The Red Devil gas grill design leads consumers to light the grill at the air intake openingS on the venturi tube. If the grill is lit at this location, the consumer is igniting the combustible gas inside the tube. The grill will appear to function as intended, however, the venturi tube will reach temperatures up to 750°F.

11. The plastic locking mechanism will melt and deform when subject to temperatures over 230°F. When the plastic deforms it allows the grill to collapse and fall to the ground.

12. Each Red Devil gas grill is packaged with an instruction booklet. Said booklet calls for the grill to be lit at the burner.

13. The instruction booklet, referred to in paragraph 12, does not contain an illustration that shows the consumer where to properly light the grill. Said booklet also does not warn consumers of the danger in lighting the grill at the venturi opening. It is also foreseeable that this booklet will not remain with the grill.

14. The features of the Red Devil gas grill, as set forth in paragraphs 9 through 11 above, constitute design defects under 15 U.S.C. 2064.

15. The failure to provide adequate instructions on how to light the Red Devil gas grill, or to warn consumers about the danger in lighting the grill at the venturi opening, as set forth in paragraph 12 and 13 above, constitutes a defect under 15 U.S.C. 2064.

2. Substantial Risk of Injury

16. All of the approximately 155,544 Red Devil gas grills have the same venturi tube and plastic locking mechanism design. It is foreseeable that consumers will light the grill at the venturi openings. Each grill has the potential to cause a severe burn injury.

17. If the Red Devil gas grill tips over, following the melting of the plastic locking mechanism, flames from the burner may ignite surrounding combustibles. This could cause severe burns or death to nearby consumers. It is also reasonably foreseeable that a consumer who is present would attempt to catch the falling grill, and receive severe burns to his or her hands or other body parts.

18. The defects in the Red Devil gas grill create a substantial risk of injury to consumers, within the meaning of section 15(a)(2) of the CPSA, 15 U.S.C. 2064(a)(2).

19. The Red Devil gas grill presents a substantial product hazard, as described in sections 15(a)(2), (c) and (d) of the CPSA, 15 U.S.C. 2064(a)(2), (c) and (d).

Relief Sought

Wherefore, in the public interest, Complaint Counsel requests that the Commission:

A. Determine that Respondents' Quantum and e4L Red Devil gas grill presents a “substantial product hazard” within the meaning of section 15(a)(2) of the CPSA, 15 U.S.C. 2064(a)(2).

B. Determine that public notification under section 15(c) of the CPSA, 15 U.S.C. 2064(c), is required to protect the public adequately from the substantial product hazard presented by the Red Devil gas grill which has been distributed and order that the Respondents:

(1) Give prompt public notice that the Red Devil gas grill presents an injury and fire hazard to consumers and of the remedies available to remove the risk of injury;

(2) Mail such notice to each person who is or has been a distributor or retailer of the Red Devil gas grill;

(3) Mail such notice to every person to whom Respondents know the Red Devil gas grill were delivered or sold; and

(4) Include in the notice required by (1), (2) and (3) above a complete description of the hazard presented, a warning to stop using the Red Devil gas grill immediately; and clear instructions to inform consumers how to avail themselves of any remedy ordered by the Commission.

C. Determine that action under section 15(d) of the CPSA, 15 U.S.C. 2064(d), is in the public interest and order Respondents:

(1) To elect to repair all the Red Devil gas grills so they will not create an injury and fire hazard; to replace all the Red Devil gas grills with a like or equivalent product which will not create an injury or fire hazard; or to refund to consumers the purchase price of the Red Devil gas grill;

(2) To make no charge to consumers and to reimburse them for any foreseeable expenses incurred in availing themselves of any remedy provided under any order issued in this matter;

(3) To reimburse distributors and dealers for expenses in connection with carrying out any Commission Order issued in this matter;

(4) To submit a plan satisfactory to the Commission, within ten (10) days of service of the final Order, directing that actions specified in paragraph C(1) through C(3) above be taken in a timely manner;

(5) To submit monthly reports documenting progress of the corrective action program;

(6) For a period of five (5) years after entry of a Final Order in this matter, to keep records of its actions taken to comply with paragraphs C(1) through C(3) above, and to supply these records upon request to the Commission for the purpose of monitoring compliance with the Final Order;

(7) To notify the Commission at least 60 days prior to any change in their business (such as incorporation, dissolution, assignment, sale or petition for bankruptcy) that results in, or is intended to result in, the emergence of successor ownership, the creation or dissolution of subsidiaries, going out of business, or any other change that might affect compliance obligations under a Final Order issued by the Commission; and

(8) To take such other and further actions as the Commission deems necessary to protect the public health and safety and to comply with the CPSA.

Issued by order of the Commission.

Dated this 29th day of May, 2001.

Alan H. Schoem,

Assistant Executive Director, Office of Compliance, U.S. Consumer Product Safety Commission, (301) 504-0621.

Eric L. Stone,

Director, Legal Division, Office of Compliance.

Jimmie L. Williams, Jr.,

Complaint Counsel, Office of Compliance, 4330 East West Highway, Bethesda, Maryland 20814-4408, (301) 504-0626, ext. 1376.

[FR Doc. 01-14137 Filed 6-5-01; 8:45 am]

BILLING CODE 6350-01-M